DEPARTMENT OF THE INTERIOR

Bureau of Indian Affairs

25 CFR Part 292

RIN 1076-AE81

Gaming on Trust Lands Acquired After October 17, 1988

AGENCY: Bureau of Indian Affairs, Interior.

ACTION: Proposed rule; extension of comment period and correction.

SUMMARY: This document extends the comment period for the proposed rule published on Thursday, October 5, 2006 (71 FR 58769), which establishes procedures that an Indian tribe must follow in seeking to conduct gaming on lands acquired after October 17, 1988. This document also contains corrections to the proposed rule. The regulation relates to gaming on trust lands acquired after October 17, 1988.

DATES: Comments must be received on or before December 19, 2006.

ADDRESSES: You may submit comments, identified by the number 1076-AE-81, by any of the following methods:

• Federal rulemaking portal: http://www.regulations.gov Follow the instructions for submitting comments.

• Fax: 202-273-3153.

• Mail: Mr. George Skibine, Director, Office of Indian Gaming Management, Office of the Deputy Assistant Secretary—Policy and Economic Development, 1849 C Street, NW., Mail Stop 3657-MIB, Washington, DC 20240.

• Hand delivery: Office of Indian Gaming, Office of the Deputy Assistant Secretary—Policy and Economic Development, 1849 C Street, NW., Room 3657-MIB, Washington, DC, from 9 a.m. to 4 p.m., Monday through Friday.

Comments on the information collection in this rule are separate from comments on the rule. If you wish to comment on the information collection, you may send a facsimile to (202) 395-6566. You may also e-mail comments to: OIRA_DOCKET@omb.eop.gov.

FOR FURTHER INFORMATION CONTACT: George Skibine, Director, Office of Indian Gaming Management, (202) 219-4066.

SUPPLEMENTARY INFORMATION: The Bureau of Indian Affairs proposes to establish procedures that an Indian tribe must follow in seeking to conduct gaming on lands acquired after October 17, 1988. The Indian Gaming Regulatory Act allows Indian tribes to conduct class II and class III gaming activities on land acquired after October 17, 1988, only if the land meets certain exceptions. This proposed rule establishes a process for submitting and considering applications from Indian tribes seeking to conduct class II or class III gaming activities on lands acquired in trust after October 17, 1988.

Correction

In the issue of October 5, 2006, on page 58773, in the second column, paragraphs (a)(2) and (b) introductory text of § 292.5 are corrected to read as follows:

§ 292.5 What must be demonstrated to meet the “settlement of a land claim” exception?

* * * * *

(a) * * *

(2) Is included on the Department's list of potential pre-1966 claims published under the Indian Claims Limitation Act of 1982 (Pub. L. 97-394, 28 U.S.C. 2415).

(b) To be eligible under this section, land must be covered by a settlement that either:

* * * * *

Dated: November 29, 2006.
Michael D. Olsen,
Principal Deputy Assistant Secretary—Indian Affairs.

[FR Doc. E6-20494 Filed 12-1-06; 8:45 am]

BILLING CODE 4310-4N-P